DEPARTMENT OF THE INTERIOR

Bureau of Land Management

[MTM 88993]

Public Land Order No. 7480; Withdrawal of National Forest System Lands in the Rocky Mountain Front; Montana

Correction

In the issue of Monday, February 12, 2001, on page 9903, in the second column, in the correction of notice document 01-1816, in the second paragraph, the “page 1816” should read “page 6658” as set forth below:

In notice document 01-1816 beginning on page 6657 in the issue of Monday, January 22, 2001, make the following correction:

On page 6658, in the second column:

“T. 29 N., R. 12 W., unsurveyed

Secs. 1 to 30, inclusive, and Secs. 32 to 36, inclusive; Sec. 31, excluding Flathead National Forest System lands.” should read:

“T. 29 N., R. 12 W., unsurveyed

Secs. 1 to 30, inclusive, and Secs. 32 to 36, inclusive;

Sec. 31, excluding Flathead National Forest System lands.”

[FR Doc. C1-1816 Filed 2-13-01; 8:45 am]

BILLING CODE 1505-01-D